DEPARTMENT OF COMMERCE

International Trade Administration

[A-570-803, A-570-803]

Final Results of Full Sunset Reviews: Bars and Wedges and Hammers and Sledges From the People's Republic of China

AGENCY: Import Administration, International Trade Administration, Department of Commerce.

ACTION: Notice of Final Results of Full Sunset Reviews: Bars and Wedges and Hammers and Sledges from the People's Republic of China.

SUMMARY: On January 24, 2000, the Department of Commerce (“the Department”) published a notice of preliminary results of the full sunset reviews of antidumping duty orders on bars and wedges and hammers and sledges from the People's Republic of China (65 FR 3658) ¹ pursuant to section 751(c) of the Tariff Act of 1930, as amended (“the Act”). We provided interested parties an opportunity to comment on our preliminary results. We did not receive comments from either domestic or respondent interested parties. As a result of these reviews, the Department finds that revocation of these orders would be likely to lead to continuation or recurrence of dumping at the rates indicated in the Final Results of Review section of this notice.

¹ See also Bars and Wedges and Hammers and Sledges from the People's Republic of China: Corrected Preliminary Results of Full Sunset Reviews, 65 FR 16167 (March 27, 2000).

FOR FURTHER INFORMATION CONTACT: Eun W. Cho or Carole Showers, Office of Policy for Import Administration, International Trade Administration, U.S. Department of Commerce, 14th Street and Constitution Avenue, NW, Washington, DC 20230; telephone: (202) 482-1698 or (202) 482-3217, respectively.

Effective Date: June 2, 2000.

Statute and Regulations

Unless otherwise indicated, all citations to the Act are references to the provisions effective January 1, 1995, the effective date of the amendments made to the Act by the Uruguay Round Agreements Act (“URAA”). In addition, unless otherwise indicated, all citations to the Department regulations are to 19 CFR part 351 (1999). Guidance on methodological or analytical issues relevant to the Department's conduct of sunset reviews is set forth in the Department Policy Bulletin 98:3—Policies Regarding the Conduct of Five-year (“Sunset”) Reviews of Antidumping and Countervailing Duty Orders; Policy Bulletin, 63 FR 18871 (April 16, 1998) (Sunset Policy Bulletin).

Background

On January 24, 2000, the Department published a notice of preliminary results of the full sunset reviews of the antidumping duty orders on bars and wedges and hammers and sledges from the People's Republic of China (“PRC”) (65 FR 3658) ² pursuant to section 751(c) of the Act. In our preliminary results, we determined that revocation of the antidumping duty orders would be likely to lead to continuation or recurrence of dumping. In addition, we preliminarily determined that the following weighted-average dumping margins are likely to prevail if the orders were revoked: PRC-wide rate of 31.76 percent ad valorem for bars/wedges and 45.42 percent ad valorem for hammers/sledges.

² See footnote 1, supra.

Neither domestic nor respondent interested parties submitted case briefs within the deadline specified in 19 CFR 351.309(c)(1)(i).

Scope of Review

The products covered by these orders include bars/wedges and hammers/sledges from the PRC. Although we provide the full scope language for the order on heavy forged hand tools (“HFHTs”) below, this determination applies only to the types of HFHTs which fall under the orders (A-570-803) on bars/wedges and hammers/sledges from the PRC. HFHTs include heads for drilling, hammers, sledges, axes, mauls, picks, and mattocks, which may or may not be painted, which may or may not be finished, or which may or may not be imported with handles; assorted bar products and track tools including wrecking bars, digging bars and tampers; and steel wood splitting wedges. HFHTs are manufactured through a hot forge operation in which steel is sheared to the required length, heated to forging temperature, and formed to final shape on forging equipment using dies specific to the desired product shape and size. Depending on the product, finishing operations may include shot-blasting, grinding, polishing, and painting, and the insertion of handles for handled products. HFHTs are currently classifiable under the following Harmonized Tariff Schedule (“HTS”) item numbers 8205.20.60, 8205.59.30, 8201.30.00, and 8201.40.60. Specifically excluded are hammers and sledges with heads 1.5 kilograms (3.33 pounds) in weight and under, and hoes and rakes, and bars 18 inches in length and under. The HTS item numbers are provided for convenience and customs purposes only. The written description of the scope remains dispositive.

There has been one scope ruling with respect to the orders on HFHTs from the PRC in which the Forrest Tool Company's Max Multipurpose Tool was determined to be within the scope of the order (58 FR 59991, (November 12, 1993)).

Analysis of Comments Received

The Department did not receive a case brief from either domestic or respondent interested parties. We have not made any changes to our preliminary results of January 24, 2000 (65 FR 3658).³

³ See footnote 1, supra.

Final Results of Review

As a result of these reviews, the Department finds that revocation of the antidumping duty orders would be likely to lead to continuation or recurrence of dumping at the rates listed below:

PRC wide | Margin (percent)
Bars/Wedges | 31.76
Hammers/Sledges | 45.42

This notice also serves as the only reminder to parties subject to administrative protective orders (“APO”) of their responsibility concerning the return or disposition of proprietary information disclosed under APO in accordance with 19 CFR 351.305 of the Department's regulations. Timely written notification of the return or destruction of APO materials or conversion to judicial protective order is hereby requested. Failure to comply with the regulations and terms of an APO is a violation which is subject to sanction.

This five-year (“sunset”) review and notice are in accordance with sections 751(c), 752, and 777(i)(1) of the Act.

Dated: May 26, 2000.
Troy H. Cribb,
Acting Assistant Secretary for Import Administration.

[FR Doc. 00-13880 Filed 6-1-00; 8:45 am]

BILLING CODE 3510-DS-P